DEPARTMENT OF LABOR

Employment and Training Administration

[TA-W-62,703]

Syngenta Inc. Crop Protection Division, Bucks, AL; Notice of Termination of Investigation

Pursuant to section 221 of the Trade Act of 1974, as amended, an investigation was initiated on January 18, 2008 in response to a petition filed by a company official on behalf of workers of Syngenta Inc., Crop Protection Division, Bucks, Alabama.

The petitioning group of workers is covered by an active certification (TA-W-59,181), which expires on April 21, 2008. Consequently, further investigation in this case would serve no purpose, and the investigation has been terminated.

Signed in Washington, DC, this 25th day of January 2008.
Linda G. Poole,
Certifying Officer, Division of Trade Adjustment Assistance.

[FR Doc. E8-1823 Filed 1-31-08; 8:45 am]

BILLING CODE 4510-FN-P